DEPARTMENT OF ENERGY

Environmental Management Site-Specific Advisory Board, Northern New Mexico

AGENCY: Department of Energy.

ACTION: Notice of Open Meeting.

SUMMARY: This notice announces a meeting of the Environmental Management Site-Specific Advisory Board (EM SSAB), Northern New Mexico. The Federal Advisory Committee Act (Pub. L. No. 92-463, 86 Stat. 770) requires that public notice of this meeting be announced in the Federal Register.

DATES: Wednesday, September 30, 2009, 2 p.m.-8 p.m.

ADDRESSES: Holiday Inn Santa Fe, 4048 Cerillos Road, Santa Fe, New Mexico.

FOR FURTHER INFORMATION CONTACT: Menice Santistevan, Northern New Mexico Citizens' Advisory Board (NNMCAB), 1660 Old Pecos Trail, Suite B, Santa Fe, NM 87505. Phone (505) 995-0393; Fax (505) 989-1752 or E-mail: msantistevan@doeal.gov.

SUPPLEMENTARY INFORMATION: Purpose of the Board: The purpose of the Board is to make recommendations to DOE in the areas of environmental restoration, waste management, and related activities.

Tentative Agenda

2 p.m. Call to Order by Deputy Designated Federal Officer, Jeff Casalina

Establishment of a Quorum, Lorelei Novak

• Roll Call

• Excused Absences

Welcome and Introductions, J.D. Campbell

Approval of Agenda

Approval of July 29, 2009 Meeting Minutes

2:15 p.m. Old Business

• Written Reports

• Open Discussion from Board Members

• Voting Procedures

2:45 p.m. New Business

• Report from Nominating Committee, Deb Shaw

• Election of Chair and Vice Chair for Fiscal Year (FY) 2010

• Consideration and Action on Meeting Schedule for FY 2010

• Appoint Ad Hoc Committee for Annual Evaluation

3:15 p.m. Deputy Designated Federal Officer Report, Jeff Casalina

3:30 p.m. Break

3:45 p.m. Ad Hoc Committee Reports

• Community Outreach

• Board Processes

• Budget Priorities for FY 2011

4 p.m. Standing Committee Reports

• Presentation of FY 2010 Committee Work Plans

• Consideration and Action on Committee Work Plans for Submittal to DOE

5 p.m. Dinner Break

6 p.m. Public Comment Period

6:15 p.m. Consideration and Action on Recommendation(s)

7:45 p.m. Round Robin Discussion

8 p.m. Adjourn, Jeff Casalina

Public Participation: The EM SSAB, Northern New Mexico, welcomes the attendance of the public at its advisory committee meetings and will make every effort to accommodate persons with physical disabilities or special needs. If you require special accommodations due to a disability, please contact Menice Santistevan at least seven days in advance of the meeting at the telephone number listed above. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes will be available by writing or calling Menice Santistevan at the address or phone number listed above. Minutes and other Board documents are on the Internet at: http://www.nnmcab.org/.

Issued at Washington, DC on August 14, 2009.
Rachel Samuel,
Deputy Committee Management Officer.

[FR Doc. E9-19899 Filed 8-18-09; 8:45 am]

BILLING CODE 6450-01-P